DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Regional Economic Data Collection Program for Southwest Alaska.

Form Number(s): None.

OMB Approval Number: None.

Type of Request: Regular submission.

Burden Hours: 207.

Number of Respondents: 623.

Average Hours per Response: Fishermen's surveys, 20 minutes; local business surveys, 15 minutes; and fish processor surveys, 40 minutes.

Needs and Uses: The data to be collected via this project will be used for developing regional economic models for Southwest Alaska fisheries. Much of the data required for regional economic analysis associated with Southwest Alaska fisheries are either unavailable or unreliable. The accurate fishery-level data on employment, labor income, and expenditures in the Southwest Alaska fishery and related industries are not currently available but are needed to estimate the effects of fisheries on the economy of Southwest Alaska. In this survey effort, data on these important regional economic variables will be collected and used to develop models that will provide more reliable estimates and significantly improve policymakers' ability to assess policy effects on fishery-dependent communities in Southwest Alaska. The respondents in this survey will be the owners of the vessels landing fish at ports in Southwest Alaska.

Affected Public: Business or other for-profit organizations.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 23, 2007.
Gwellnar Banks,
Management Analyst, Office of the Chief Information Officer.

[FR Doc. E7-5723 Filed 3-28-07; 8:45 am]

BILLING CODE 3510-22-P